DEPARTMENT OF HEALTH AND HUMAN SERVICES

Health Resources and Services Administration

Public Health Service Act, Section 330A(f)

AGENCY: Health Resources and Services Administration (HRSA), HHS.

ACTION: Notice of Non-competitive Replacement Award to White River Rural Health Center, Arkansas.

SUMMARY: HRSA has issued a non-competitive replacement award under the Rural Health Network Development Program to White River Rural Health Center, Inc. (WRRHC). The original grantee, Siloam Springs Memorial Hospital, is no longer eligible to serve as the lead entity for this network of rural health care providers serving a five county area in Arkansas and Oklahoma. This replacement award will ensure that the medically underserved residents of western Benton and Washington counties in Arkansas and Adair, Cherokee, and Delaware counties in Oklahoma continue receiving necessary medical care and services without disruption.

SUPPLEMENTARY INFORMATION: Intended Recipient of the Award: White River Rural Health Center, Inc. in Augusta, Arkansas.

Amount of the Fiscal Year 2009 Award: $179,995.

Anticipated Amount of Fiscal Year 2010 Award: $179,995.

Original Project Period: May 1, 2008, through April 30, 2011.

Project Period for Replacement Award: August 1, 2009; end date April 30, 2011.

Authority: The Rural Health Network Development Program is authorized under the Public Health Service Act, section 330A(f), 42 U.S.C. 254c(f). The authority for the exception to competition is HHS Grants Policy Directive 2.04, Awarding Grants.

Catalogue of Federal Domestic Assistance Number: 93.912.

Justification for Transfer of Funds: The network of service providers funded under the original grant award are currently engaged in activities designed to increase access to health care and improve the quality of life for the poverty-stricken residents in the five county service area in Arkansas and Oklahoma, while further decreasing inefficiencies in the health care system, reducing inappropriate emergency room use, helping businesses keep insurance premiums under control, and improving the system for managing patients' long-term health, especially those with conditions like diabetes and heart disease. The service area under this grant award has a limited number of health care providers and a combined population of over 111,131. Of this population, 23,000 (21 percent) lack health insurance, and over 18,000 (16.5 percent) have incomes less than 100 percent of the poverty rate. It is critical that HRSA funding for this network of service providers continues with minimal disruption of services.

Siloam Springs Memorial Hospital is no longer able to serve as the lead entity for this network of rural health care providers in Arkansas and Oklahoma, nor were the other network participants able to assume the lead fiduciary role. WRRHC is a successful community health center that provides services to 10 counties within Arkansas and has over 22 years of experience in managing State and federally funded programs, including three previous Rural Health Services Outreach grants. The comprehensive services that WRRHC provides and their ability to expand their service area will enable WRRHC to maintain the current scope of service and activities as originally awarded under the grant to Siloam Springs Memorial Hospital. This replacement award will help ensure the continued improvement of health care systems in the targeted service area. WRRHC has a demonstrated record of sound stewardship of Federal funds and can effectively serve as the network lead for the remainder period of support in a manner which minimizes any disruption of services provided by the network. Consequently, White River Rural Health Center has been designated the replacement award recipient.

HRSA is unaware of any other entity that both meets the statutory eligibility requirements and has the ability to carry out these activities.

FOR FURTHER INFORMATION CONTACT: Tom Morris, Associate Administrator, Office of Rural Health Policy, Health Resources and Services Administration, 5600 Fishers Lane, Rockville, MD 20857; phone 301-443-0835; tmorris@hrsa.hhs.gov.

Dated: September 16, 2009.
Mary K. Wakefield,
Administrator.

[FR Doc. E9-22815 Filed 9-21-09; 8:45 am]

BILLING CODE 4165-15-P